DEPARTMENT OF VETERANS AFFAIRS

[OMB Control No. 2900-0570]

Proposed Information Collection Activity: Proposed Collection; Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments on the burden estimates relating to customer satisfaction surveys.

DATES: Written comments and recommendations on the proposed collection of information should be received on or before February 8, 2002.

ADDRESSES: Submit written comments on the collection of information to Ann Bickoff, Veterans Health Administration (193B1), Department of Veterans Affairs, 810 Vermont Avenue, NW., Washington, DC 20420 or e-mail: ann.bickoff@mail.va.gov. Please refer to “OMB Control No. 2900-0570” in any correspondence.

FOR FURTHER INFORMATION CONTACT: Ann Bickoff at (202) 273-8310.

SUPPLEMENTARY INFORMATION: Under the PRA of 1995 (Public Law 104-13; 44 U.S.C., 3501-3520), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Title: Generic Clearance for the Veterans Health Administration Customer Satisfaction Surveys.

OMB Control Number: 2900-0570.

Type of Review: Revision of a currently approved collection.

Abstract: Executive Order 12862, Setting Customer Service Standards, requires Federal agencies and departments to identify and survey its customers to determine the kind and quality of services they want and their level of satisfaction with existing services. VHA uses customer satisfaction surveys to gauge customer perceptions of VA services as well as customer expectations and desires. The results of these information collections lead to improvements in the quality of VHA service delivery by helping to shape the direction and focus of specific programs and services.

Affected Public: Individuals or households.

Listing of Survey Activities

I. Special Emphasis Programs

The following list of activities is a compendium of customer satisfaction survey plans by VHA. Different special emphasis programs will be surveyed annually; however, program selections have not been made for FYs 2002-2004. Burden hours for the out-years are based on FY 2001 estimates (Burden hours per respondent: 15 minutes).

Year | Number of respondents | Estimated annual burden (in hours) | Frequency
2002 | 50,000 | 12,500 | Annually.
2003 | 50,000 | 12,500 | Annually.
2004 | 50,000 | 12,500 | Annually.

II. Local Facilities Surveys

Year | Number of respondents | Estimated annual burden (in hours) | Frequency
2002 | 288,780 | 62,569 | One-time.
2003 | 288,780 | 62,569 | One-time.
2004 | 288,780 | 62,569 | One-time.

Most customer satisfaction surveys will be recurring so that VHA can create ongoing measures of performance and to determine how well the Agency meets customer service standards. Each collection of information will consist of the minimum amount of information necessary to determine customer needs and to evaluate VHA's performance. VHA expects to distribute written surveys with a total annual burden of approximately 75,069 hours in FYs 2002, 2003, and 2004 (Burden hours per respondent: 13 minutes).

Dated: November 27, 2001.
By direction of the Secretary.
Donald L. Neilson,
Director, Information Management Service.

[FR Doc. 01-30474 Filed 12-7-01; 8:45 am]

BILLING CODE 8320-01-P